ENVIRONMENTAL PROTECTION AGENCY

[EPA-HQ-SFUND-2004-0006; FRL-9920-04-OSWER]

Proposed Information Collection Request; Comment Request; Community Right-to-Know Reporting Requirements Under Sections 311 and 312 of the Emergency Planning and Community Right-to-Know Act (EPCRA), EPA ICR Number 1352.13, OMB Control Number 2050-0072

AGENCY: Environmental Protection Agency.

ACTION: Notice.

SUMMARY: The Environmental Protection Agency (EPA) is planning to submit an information collection request (ICR), “Community Right-to-Know Reporting Requirements under Sections 311 and 312 of the Emergency Planning and Community Right-to-Know Act (EPCRA), EPA ICR Number 1352.13, OMB Control Number 2050-0072 to the Office of Management and Budget (OMB) for review and approval in accordance with the Paperwork Reduction Act (44 U.S.C. 3501 et seq.). Before doing so, EPA is soliciting public comments on specific aspects of the proposed information collection as described below. This is a proposed extension of the ICR, which is currently approved through April 30, 2015. An Agency may not conduct or sponsor and a person is not required to respond to a collection of information unless it displays a currently valid OMB control number.

DATES: Comments must be submitted on or before February 2, 2015.

ADDRESSES: Submit your comments, referencing Docket ID No. EPA-HQ-SFUND-2004-0006, online using www.regulations.gov (our preferred method), by email to superfund.docket@epa.gov or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Sicy Jacob, Office of Emergency Management, 5104A, Environmental Protection Agency, 1200 Pennsylvania Ave. NW., Washington, DC 20460; telephone number: (202) 564-8019; email address: jacob.sicy@epa.gov

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The authority for these requirements is sections 311 and 312 of the Emergency Planning and Community Right-to-Know Act (EPCRA), 1986 (42 U.S.C. 11011, 11012). EPCRA Section 311 requires owners and operators of facilities subject to OSHA Hazard Communication Standard (HCS) to submit a list of chemicals or MSDSs (for those chemicals that exceed thresholds, specified in 40 CFR part 370) to the State Emergency Response Commission (SERC) or Tribal Emergency Response Commission (TERC), Local Emergency Planning Committee (LEPC) or Tribal Emergency Planning Committee (TEPC) and the local fire department (LFD) with jurisdiction over their facility. This is a one-time requirement unless a facility becomes subject to the regulations or has updated information on the hazardous chemicals that were already submitted by the facility. EPCRA Section 312 requires owners and operators of facilities subject to OSHA HCS to submit an inventory form (for those chemicals that exceed the thresholds, specified in 40 CFR part 370) to the SERC (or TERC), LEPC (or TEPC), and LFD with jurisdiction over their facility. This inventory form, Tier II (Emergency and Hazardous Chemical Inventory Form), is to be submitted on March 1 of each year and must include the inventory of hazardous chemicals present at the facility in the previous calendar year.

On July 13, 2012, EPA finalized revisions to the Tier II inventory form to add some new data elements which would be useful for local emergency planners and responders. The ICR No. 2436.02 was approved by OMB for the burden hours and costs incurred with these revisions.

In this renewal for ICR 1352.13, the burden hours and costs estimated will be merged with the burden estimated for ICR No. 2436.02 since the authority for collection of information is under Sections 311 and 312 of EPCRA.

Form Numbers: Tier II Emergency and Hazardous Chemical Inventory Form, EPA Form No. 8700-30.

Respondents/affected entities: Entities potentially affected by this ICR are manufacturers and non-manufacturers required to have available a Material Safety Data Sheet (or Safety Data Sheet) under the OSHA HCS.

Respondent's obligation to respond: Mandatory (Sections 311 and 312 of EPCRA).

Estimated number of respondents: 393,552.

Frequency of response: Annual.

Total estimated burden: 4,006,632 hours (per year). Burden is defined at 5 CFR 1320.03(b).

Total estimated cost: $6,389,900 (per year), includes annualized capital or operation & maintenance costs.

Changes in Estimates: There is no increase in burden in this renewal. However, the burden hours and costs estimated for the revisions to the Tier II inventory form finalized on July 13, 2012 is merged with the burden estimated for complying with Sections 311 and 312 of EPCRA. The ICR number for the revisions to the Tier II inventory form is ICR No. 2436.02. The authority for ICR No. 1352.13 and 2436.02 is Sections 311 and 312 of EPCRA.

Dated: November 24, 2014.
Reggie Cheatham,
Acting Director, Office of Emergency Management.

[FR Doc. 2014-28448 Filed 12-2-14; 8:45 am]

BILLING CODE 6560-50-P